DEPARTMENT OF AGRICULTURE

Forest Service

Winema and Fremont Resource Advisory Committee

AGENCY: Forest Service, USDA.

ACTION: Notice of meeting.

SUMMARY: The Fremont and Winema Resource Advisory Committee will meet in Lakeview, Oregon, for the purpose of evaluating and recommending resource management projects for funding in 2004, under the provisions of Title II of the Secure Rural Schools and Community Self-Determination Act of 2000.

DATES: The meeting will be held on June 10 and 11, 2004.

ADDRESSES: The meeting will be held in the conference room of the Fremont-Winema National Forests' Klamath Falls Office, 2819 Dahlia Street, Klamath Falls. Send written comments to Fremont and Winema Resource Advisory Committee, c/o USDA Forest Service, P.O. Box 67, Paisley, OR 97636, or electronically to waney@fs.fed.us.

FOR FURTHER INFORMATION CONTACT: W.C. (Bill) Aney, Designated Federal Official, Paisley Ranger District, Fremont-Winema National Forests, P.O. Box 67, Paisley, OR 97636, telephone (541) 943-4401.

SUPPLEMENTARY INFORMATION: The agenda will include a review of 2002-2004 projects recommended by the RAC, consideration of Title II project proposals for 2005 submitted by the Forest Service, the public, and other agencies, presentations by project proponents, and final recommendations for funding of fiscal year 2005 projects. All Fremont and Winema Resource Advisory Committee Meetings are open to the public. There will be a time for public input and comment. Interested citizens are encouraged to attend.

Dated: May 21, 2004.
Karen Shimamoto,
Forest Supervisor.

[FR Doc. 04-12194 Filed 5-28-04; 8:45 am]

BILLING CODE 3410-11-M